DEPARTMENT OF ENERGY

Federal Energy Regulatory Commission

[Project No. 308-007]

PacifiCorp Energy; Notice of Intent To Prepare a Draft and Final Environmental Assessment and Revised Procedural Schedule

On February 28, 2014, PacifiCorp Energy (PacifiCorp) filed an application for the continued operation of the 1.1-megawatt Wallowa Falls Hydroelectric Project (Wallowa Falls Project) No. 308. On February 10, 2015, PacifiCorp filed an updated application that included modifications to its proposed action. On March 6, 2015, the Commission issued a Notice of Application Ready for Environmental Analysis, and Soliciting Comments, Recommendations, Preliminary Terms and Conditions, and Preliminary Fishway Prescriptions (REA Notice). The REA notice included a procedural schedule that included preparation of a single Environmental Assessment (EA).

Based on the comments received in response to the REA notice, Commission staff has determined that its analysis of the proposed relicensing action will require preparation of a Draft and Final EA. A Draft EA will be issued and circulated for review by all interested parties. All comments filed on the Draft EA will be analyzed by staff and considered in the Final EA. Staff's conclusions and recommendations will be available for the Commission's consideration in reaching its final licensing decision.

The application will be processed according to the following revised procedural schedule. Revisions to the schedule may be made as appropriate.

Milestone | Target date
Issue Draft EA | November 2015.
Comments on Draft EA due | December 2015.
Modified terms and conditions due | January 2016.
Commission issues Final EA | April 2016.

Any questions regarding this notice may be directed to Matt Cutlip at (503) 552-2762, or by email at matt.cutlip@ferc.gov.

Dated: June 18, 2015.
Kimberly D. Bose,
Secretary.

[FR Doc. 2015-15490 Filed 6-23-15; 8:45 am]

BILLING CODE 6717-01-P